DEPARTMENT OF COMMERCE

Foreign-Trade Zones Board

[Order No. 1584 ]

Approval for Expanded Manufacturing Authority, Foreign-Trade Subzone 42A, Mitsubishi Power Systems Americas, Inc., Orlando, FL (Power Generation Turbine Components)

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Greater Orlando Aviation Authority, grantee of Foreign-Trade Zone 42, has submitted an application on behalf of Mitsubishi Power Systems Americas, Inc. (MPSA), operator of Subzone 42A at the MPSA power generation turbine components repair/manufacturing plant in Orlando, Florida, requesting an expansion of MPSA's scope of FTZ manufacturing authority to include new production capacity and finished products (Docket 6-2008, filed 2-6-2008);

Whereas, notice inviting public comment was given in the Federal Register (73 FR 9277, 2-20-2008); and,

Whereas, the Board adopts the findings and recommendations of the examiner's report, and finds that the requirements of the FTZ Act and Board's regulations are satisfied, and that approval of the application is in the public interest;

Now, therefore, the Board hereby approves the request for expanded FTZ manufacturing authority, as described in the application and Federal Register notice, subject to the FTZ Act and the Board's regulations, including Section 400.28.

Signed at Washington, DC, this 20th day of November 2008.
David M. Spooner,
Assistant Secretary of Commerce for Import Administration, Alternate Chairman, Foreign-Trade Zones Board.
ATTEST:
Andrew McGilvray,
Executive Secretary.

[FR Doc. E8-28589 Filed 12-1-08; 8:45 am]

BILLING CODE 3510-DS-P